FEDERAL MARITIME COMMISSION

Ocean Transportation Intermediary License Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/Address | Date Reissued
004094N | All Transport, Inc., 8369 NW. 66th Street, Miami, FL 33166 | December 24, 2010.
004413N | Industrial Connections, Inc., 300 Park Blvd., Suite 165, Itasca, IL 60143 | December 12, 2010.

Sandra L. Kusumoto,
Director, Bureau of Certification and Licensing.

[FR Doc. 2011-1680 Filed 1-25-11; 8:45 am]

BILLING CODE P